DEPARTMENT OF VETERANS AFFAIRS

Advisory Committee on Cemeteries and Memorials; Notice of Meeting

The Department of Veterans Affairs gives notice under Public Law 92-463 (Federal Advisory Committee Act) that a meeting of the Advisory Committee on Cemeteries and Memorials will be held on April 27-28, 2006, at the Mission Inn, 3649 Mission Inn Avenue, Riverside, California. On April 27, 2006, the meeting will begin at 8 a.m. and conclude at 3:45 p.m. On April 28, 2006, the meeting will begin at 8:30 a.m. and conclude at 4 p.m. The meeting is open to the public.

The purpose of the Committee is to advise the Secretary of Veterans Affairs on the administration of national cemeteries, soldiers' lots and plots, the selection of new national cemetery sites, the erection of appropriate memorials, and the adequacy of Federal burial benefits.

On April 27, 2006, the Committee will receive updates on various National Cemetery Administration (NCA) issues, to include the impact of veteran demographics on NCA planning and the status of cemetery construction projects. On April 28, 2006, the Committee will tour Riverside National Cemetery and then reconvene at the Mission Inn for a business session in the afternoon, which will include discussions of Committee recommendations and future meeting sites.

Time will not be allocated for receiving oral presentations from the public. Any member of the public wishing to attend the meeting should contact Mr. Michael Nacincik, Designated Federal Officer, at (202) 273-5221. The Committee will accept written comments. Comments may be transmitted electronically to the Committee at mike.nacincik@mail.va.gov or mailed to the National Cemetery Administration, (41C2), 810 Vermont Avenue, NW., Washington, DC 20420. In the public's communications with the Committee, the writers must identify themselves and state the organizations, associations, or persons they represent.

Dated: March 31, 2006.
E. Philip Riggin,
Committee Management Officer.

[FR Doc. 06-3368 Filed 4-7-06; 8:45 am]

BILLING CODE 8320-01-M